MEDICARE PAYMENT ADVISORY COMMISSION

Commission Meeting

AGENCY: Medicare Payment Advisory Commission.

ACTION: Notice of meeting.

SUMMARY: The Commission will hold its next public meeting on Thursday, December 13, 2001, and Friday, December 14, 2001, at the Ronald Reagan Building, International Trade Center, 1300 Pennsylvania Avenue, NW., Washington, DC. The meeting is tentatively scheduled to begin at 10 a.m. on December 13, and at 9 a.m. on December 14.

Topics for discussion include: Quality improvement for health plans and providers; pass-through payments under the prospective payment system for hospital outpatient department services; Medicare+Choice; measuring changes in input prices in traditional Medicare; adjusting local differences in resident training costs; paying for services in traditional Medicare; and assessing payment adequacy and updating Medicare payments.

Agendas will be mailed on December 4, 2001. The final agenda will be available on the Commission's web site (www.MedPAC.gov)

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 01-30040 Filed 12-4-01; 8:45 am]

BILLING CODE 6820-BW-M